FEDERAL TRADE COMMISSION

Granting of Request for Early Termination of the Waiting period Under Premerger Notification Rules

Section 7A of the Clayton Act, 15 U.S.C. 18a, is added by Title II of the Hart-Scott-Rodino Antitrust Improvements Act of 1976, requires persons contemplating certain mergers or acquisitions to give Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

TRANSACTION GRANTED EARLY TERMINATION
ET date | Trans No. | ET req status | Party name
25-AUG-03 | 20030875 | G | Euro-Pro Holdings LLC
|  | G | Mark Rosenzweig
|  | G | Euro-Pro Corporation
|  | G | Omega Sewmac, Inc.
|  | G | Stanro-EP Corp.
| 20030878 | G | Fast Retailing Co., Ltd.
|  | G | Andrew Rosen
|  | G | Theory California Holding Inc.
|  | G | R&T LLC
|  | G | Theory Retail Holding LLC
|  | G | Theory International, LLC
|  | G | Theory LLC
| 20030879 | G | Fast Retailing Co., Ltd.
|  | G | Elie Tahari
|  | G | Theory California Holding Inc.
|  | G | R&T LLC
|  | G | Theory International, LLC
|  | G | Theory Retail Holding LLC
|  | G | Theory LLC
| 20030880 | G | Contech Holdings Corporation
|  | G | Kirtland Capital Partners III L.P.
|  | G | PDM Bridge, LLC
| 20030891 | G | Jarden Corporation
|  | G | American Manufacturing Corporation
|  | G | Lehigh Consumer Products Corporation
| 20030892 | G | Alloy, Inc.
|  | G | dELiA*s Corp.
|  | G | dELiA*s Corp.
| 20030894 | G | Tellium, Inc.
|  | G | Zhone Technologies, Inc.
|  | G | Zhone Technologies, Inc.
26-AUG-03 | 20030708 | G | KAP Global Publishers, S.A.
|  | G | Mr. Reinhard Mohn.
|  | G | City Data GmbH.
| 20030866 | G | Clay M. Biddinger.
|  | G | Comidisco Holding Company, Inc.
|  | G | Comidisco, Inc.
| 20030889 | G | Arsenal Capital Partners Qualified Purchaser Fund LP.
|  | G | Cambrex Corporation.
|  | G | CasChem, Inc.
|  | G | Heico Chemicals, Inc.
|  | G | Nepera, Inc.
|  | G | Nepcam, Inc.
|  | G | Zeeland Chemicals, Inc.
27-AUG-03 | 20030843 | G | UniFirst Corporation.
|  | G | Textilease Corporation.
|  | G | Textilease Corporation.
28-AUG-03 | 20030872 | G | Eastman Kodak Company.
|  | G | PracticeWorks, Inc.
|  | G | PracticeWorks, Inc.
29-AUG-03 | 20030882 | G | Thomson, S.A.
|  | G | Thomson, S.A.
|  | G | Technicolor Digital Cinema, LLC.
| 20030893 | G | Interwoven, Inc.
|  | G | iManage, Inc.
|  | G | iManage, Inc.
| 20030899 | G | Michael Watts and Cynthia Watts.
|  | G | Michael Watts and Cynthia Watts.
|  | G | Sunstate Equipment Co., LLC.
| 20030901 | G | Vestar-AIV Holdings A L.P.
|  | G | FL Selenia S.a.r.l.
|  | G | FL Selenia S.p.A.
03-SEP-03 | 20030796 | G | Bain Capital Fund VII, L.P.
|  | G | Linsalata Capital Partners Fund III, L.P.
|  | G | Alpha Shirt Holdings, Inc.
| 20030888 | G | Patterson Dental Company
|  | G | AbilityOne Products Corporation
|  | G | AbilityOne Products Corporation
09-SEP-03 | 20030897 | G | Mr. Robert Mathys, Jr.
|  | G | Synthes-Stratec, Inc.
|  | G | Synthes-Stratec, Inc.
03-SEP-03 | 20030900 | G | New SAC
03-SEP-03 |  | G | Business Objects, S.A.
|  | G | Business Objects, S.A.
03-SEP-03 | 20030902 | G | Amcor Limited
|  | G | Rexam PLC
|  | G | Rexam Healthcare Flexibles, Inc.
| 20030910 | G | Cascades, Inc.
|  | G | Edward P. Fitts, Jr.
|  | G | Dopaco, Inc.
03-SEP-03 | 20030911 | G | Susquehanna Pfaltzgraff Co.
|  | G | RCN Corporation
|  | G | RCN Telecom Services, Inc.
| 20030912 | G | Delta Apparel, Inc.
|  | G | M.J. Soffe Co.
|  | G | M.J. Soffe Co.
| 20030914 | G | Rayovac Corporation
|  | G | Ellen Kiam
|  | G | Remington Products Company, LLC
| 20030915 | G | Leucadia National Corporation
|  | G | WilTel Communications Group, Inc.
|  | G | WilTel Communications Group, Inc.
| 20030924 | G | FMR Corp.
|  | G | International Business Machines Corporation
|  | G | International Business Machines Corporation
| 20030925 | G | Koyo Seiko Co., Ltd.
|  | G | Northrop Grumman Corporation
|  | G | TRW Koyo Steering Systems Company
| 20030929 | G | RFE Investment Partners VI, L.P.
|  | G | MSP Holding LLC
|  | G | McKenzie Sports Products, Inc.
11-SEP-03 | 20030903 | G | Crunch Equity Holding, LLC
|  | G | Hicks, Muse, Tate & Furst Equity Fund V, L.P.
|  | G | Pinnacle Foods Holdings Corporation
| 20030926 | G | McDATA Corporation
|  | G | Sanera Systems, Inc.
|  | G | Sanera Systems, Inc.
| 20030928 | G | Nabco Ltd.
|  | G | Teijin Limited
|  | G | Teijin Seiki Co., Ltd.
15-SEP-03 | 20030913 | G | TECO Energy, Inc.
|  | G | TECO Energy, Inc.
|  | G | Panda Development Corporation
|  | G | PLC Development Holdings, LLC
| 20030918 | G | GTCR Fund VIII, L.P.
|  | G | TECO Energy, Inc.
|  | G | Hardee Power Partners, Limited
| 20030931 | G | Wendy's International, Inc.
|  | G | Orlando Foods, Ltd.
|  | G | Orlando Foods, Ltd.
| 20030933 | G | LandAmerica Financial Group, Inc.
|  | G | Lereta Corp.
|  | G | Lereta Corp.
| 20030934 | G | H&R Block, Inc.
|  | G | Monte C. and Viola S. Nelson, Husband and Wife
|  | G | Block Mountain West, Inc.
| 20030939 | G | DLJ Merchant Banking Partners, III L.P.
|  | G | Kenneth R. Thomson
|  | G | Thomson Healthcare, Inc.
| 20030940 | G | Fiserv, Inc.
|  | G | Mason Wells Leveraged Buyout Fund I, Limited Partnership
|  | G | GAC Holdings Corporation
| 20030943 | G | SKM Equity Fund III, L.P.
|  | G | Pfingsten Executive Fund II, L.P.
|  | G | Norcraft Companies, L.L.C.
| 20030945 | G | CAR Acquisition Company LLC
|  | G | ANC Rental Corporation
|  | G | ANC Rental Corporation
| 20030948 | G | His Highness General Sheikh Mohammed bin Rashid Al Maktoum
|  | G | Mariner Health Care, Inc.
|  | G | MHC/LCA Florida, Inc.
|  | G | Mariner Health Care of Palm City, Inc.
|  | G | Mariner Health Care of Pinellas Point, Inc.
|  | G | Mariner Health of Orlando, Inc.
|  | G | Tampa Medical Associates, Inc.
|  | G | Mariner Health of Jacksonville, Inc.
|  | G | Mariner Health of Florida, Inc.
|  | G | Mariner Health at Bonifay, Inc.
15-SEP-03 | 20030948 | G | Mariner Health Properties IV, Ltd.
|  | G | Mariner Health of Palmetto, Inc.
|  | G | Mariner Health Care of Atlantic Shores, Inc.
|  | G | Mariner Health Care of MacClenny, Inc.
|  | G | Mariner Health Care of Inverness, Inc.
|  | G | Mariner Health Care of Metrowest, Inc.
|  | G | Mariner Health Care of Tuskawilla, Inc.
|  | G | MHC/CSI Florida, Inc.
|  | G | Mariner Health Care of Lake Worth, Inc.
|  | G | Mariner Health Care of Port Orange, Inc.
|  | G | Mariner Health Care of Orange City, Inc.
16-SEP-03 | 20030908 | G | Getinge AB
|  | G | Siemens Aktiengesellschaft
|  | G | ServoCare Systems AB
|  | G | SBA Life Supporting Systems S.p.A.

FOR FURTHER INFORMATION CONTACT: Sandra M. Peay, Contact Representative, or Renee Hallman, Legal Technician, Federal Trade Commission, Premerger Notification Office, Bureau of Competition, Room H-303, Washington, DC 20580, (202) 326-3100.

By Direction of the Commission.
Donald S. Clark,
Secretary.

[FR Doc. 03-25793 Filed 10-9-03; 8:45 am]

BILLING CODE 6750-01-M